NUCLEAR REGULATORY COMMISSION

[Docket No. 040-09027]

Notice of License Termination and Release of the Cabot Site in Reading, PA, for Unrestricted Release

AGENCY: Nuclear Regulatory Commission.

ACTION: Notice of License Termination and Site Release for Unrestricted Use.

FOR FURTHER INFORMATION CONTACT: Theodore B. Smith, Reactor Decommissioning Branch, Division of Waste Management and Environmental Protection, NRC, Washington, DC 20555; telephone (301) 415-6721; fax (301) 415-5369; or e-mail at tbs1@nrc.gov.

SUPPLEMENTARY INFORMATION:

I. Introduction

Pursuant to 10 CFR 2.106, the U.S. Nuclear Regulatory Commission (NRC) is providing notice that it is terminating license SMC-1562 for Cabot Corporation (Cabot or Licensee), and releasing the Cabot site in Reading, PA, for unrestricted use. The Licensee's request for an amendment to authorize decommissioning of the site in Reading, PA, was previously noticed in the Federal Register on October 28, 1998, (FR Doc. 98-28815) with a notice of an opportunity to request a hearing.

Cabot provided a final radiological status survey and performed dose analyses to demonstrate the site meets the license termination criteria in Subpart E of 10 CFR part 20. In addition, NRC staff conducted independent measurements of residual radioactivity remaining at the site.

The NRC staff has evaluated the Cabot license termination request, and has reviewed the results of the final radiological survey. The NRC staff has performed confirmatory measurements throughout the site property in order to verify that Cabot's previously approved decommissioning plan has been properly implemented. The NRC finds that the site cleanup meets the unrestricted release dose criteria in 10 CFR 20.1402, and concludes that the site is suitable for release for unrestricted use. Accordingly, the license for the Cabot Reading, PA site is being terminated. The staff prepared a Safety Evaluation Report (SER) to support this action.

II. Further Information

In accordance with 10 CFR 2.790 of the NRC's “Rules of Practice,” details with respect to this action, including the SER, are available electronically at the NRC's Electronic Reading Room at http://www.nrc.gov/reading-rm/adams.html. From this site, you can access the NRC's Agencywide Document Access and Management System (ADAMS), which provides text and image files of NRC's public documents. The ADAMS accession number for the document, “Safety Evaluation Report for Issuance of Amendment No. 10 to Materials License No. SMC-1562, Cabot Corporation)” is ADAMS No. ML080650826. If you do not have access to ADAMS or if there are problems in accessing a document located in ADAMS, contact the NRC Public Document Room (PDR) Reference staff at 1(800) 397-4209, (301) 415-4737, or by e-mail to pdr@nrc.gov.

These documents may also be viewed electronically on the public computers located at the NRC's Public Document Room (PDR), O 1 F21, One White Flint North, 11555 Rockville Pike, Rockville, MD 20852. The PDR reproduction contractor will copy documents for a fee.

Dated at NRC, Rockville, MD, this 31st day of March, 2008.
For the Nuclear Regulatory Commission.
Keith I. McConnell,
Deputy Director, Decommissioning Directorate, Division of Waste Management and Environmental Protection, Office of Federal and State Materials and Environmental Management Programs.

[FR Doc. E8-7049 Filed 4-3-08; 8:45 am]

BILLING CODE 7590-01-P